DEPARTMENT OF LABOR

Mine Safety and Health Administration

Petition for Modification

AGENCY: Mine Safety and Health Administration (MSHA), Labor.

ACTION: Notice of petition for modification of existing mandatory safety standard.

SUMMARY: Section 101(c) of the Federal Mine Safety and Health Act of 1977 and 30 CFR part 44 govern the application, processing, and disposition of petitions for modification. This notice is a summary of a petition for modification filed by the party listed below to modify the application of existing mandatory safety standard published in Title 30 of the Code of Federal Regulations.

DATES: All comments on the petition must be received by the Office of Standards, Regulations and Variances on or before June 1, 2010.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209-3939, Attention: Patricia W. Silvey, Director, Office of Standards, Regulations and Variances.

4. Hand-Delivery or Courier: MSHA, Office of Standards, Regulations and Variances, 1100 Wilson Boulevard, Room 2350, Arlington, Virginia 22209-3939, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect a copy of the petition and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petition for Modification

Docket No: M-2010-017-C.

Petitioner: Brooks Run Mining Company, LLC, 208 Business Street, Beckley, West Virginia 25801.

Mine: Horse Creek No. 1 Mine, MSHA I.D. No. 46-09348, located in McDowell County, West Virginia.

Regulation Affected: 30 CFR 75.1101-1(b) (Deluge-type water spray systems).

Modification Request: The petitioner proposes as an alternative method that in lieu of providing nozzles for blow-off dust covers, weekly inspection and functional testing of the complete deluge-type water spray system will be continued and blow-off dust covers will be removed from the nozzles. The petitioner states that: (1) Weekly inspection and functional tests are conducted of its complete deluge-type water spray system; (2) each nozzle is provided with a blow-off dust cover; (3) in view of the frequent inspections and functional testing of the system, the dust covers are not necessary because the nozzles can be maintained in an unclogged condition through weekly use; and (4) it is burdensome to recap the large number of covers weekly after each inspection and functional test. The petitioner asserts that the proposed alternative method will at all times guarantee no less than the same measure of protection afforded the miners as the existing standard.

Patricia W. Silvey,
Director, Office of Standards, Regulations and Variances.

[FR Doc. 2010-10109 Filed 4-29-10; 8:45 am]

BILLING CODE 4510-43-P